DEPARTMENT OF DEFENSE

Department of the Army, Corps of Engineers

Notice of Intent To Prepare Supplement II to the Final Environmental Impact Statement, Mississippi River and Tributaries (MR&T) Project, Mississippi River Mainline Levees and Channel Improvement

AGENCY: Army Corps of Engineers, DoD.

ACTION: Notice of Intent.

SUMMARY: The U.S. Army Corps of Engineers (“USACE”), Memphis District, Vicksburg District, and the New Orleans District, is announcing its intent to prepare Supplement II (SEIS II) to the Final Environmental Impact Statement, Mississippi River and Tributaries (MR&T) Project, Mississippi River Mainline Levees and Channel Improvement of 1976 (1976 EIS), as updated and supplemented by Supplement No. 1, Mississippi River and Tributaries Project, Mississippi River Mainline Levee Enlargement and Seepage Control of 1998 (SEIS I) to the 1976 EIS, to cover construction of remaining authorized work on the Mississippi River mainline levees (MRL) feature. Over the past twenty years since the finalization of SEIS I, USACE has determined that various sections (reaches) of the mainline levee system are deficient in varying amounts, and that certain remedial measures need to be undertaken to control seepage and to raise and stabilize the deficient sections of the levee to protect the lower Mississippi River Valley against the Project Design Flood (PDF) and maintain the structural integrity of the MRL system. The Proposed Action of SEIS II is to supplement and, as necessary, augment the 1976 EIS and SEIS I using the primary MR&T goals of: (1) Providing flood protection from the PDF; and (2) developing an environmentally sustainable project; formulating alternatives; identifying significant resources; assessing the direct, indirect, and cumulative impacts to those resources; investigating and environmentally assessing potential borrow areas; developing mitigation measures; and evaluating and selecting a preferred method for the construction of necessary authorized MRL Project features, which may include but are not limited to, implementing seepage control measures and the construction of various remediation measures for deficient levee reaches to bring these reaches to the project design grade. SEIS II will evaluate the potential direct, indirect, and cumulative impacts for an array of alternatives, including a No Action alternative.

FOR FURTHER INFORMATION CONTACT: Comments and questions about SEIS II should be submitted to USACE by email to: MRL-EIS-2@usace.army.mil; or by regular mail to: U.S. Army Corps of Engineers, ATTN: CEMVN-PDC-UDC, 167 North Main Street, Room B-202, Memphis, Tennessee 38103-1894. For additional information, including but not limited to a copy of SEIS I and the 1976 EIS, please visit the Project website at: http://www.mvk.usace.army.mil/MRLSEIS/.

SUPPLEMENTARY INFORMATION:

1. Project Background and Authorization. The MR&T Project (and the MRL feature) was authorized by the Flood Control Act of 1928, as amended. The 1976 EIS was filed with the Council of Environmental Quality on 8 April 1976. SEIS I, which was prepared to supplement the 1976 EIS to evaluate the effects of continued construction of the MRL levee enlargements, stability berms, seepage control, and erosion protection measures, was filed with the Environmental Protection Agency on 31 July 1998. SEIS I focused on the levees of the MRL that were the most deficient in height and on seepage control measures for levee reaches with observable signs of seepage during previous high water events.

The MR&T Project is designed to manage flood risk damages in the alluvial valley between Cape Girardeau, Missouri and the Head of Passes, Louisiana. The goal of the MR&T Project is to provide an environmentally sustainable project for comprehensive flood damage control, protection, and risk reduction from the “Project Design Flood”, in the alluvial valley beginning at Cape Girardeau, Missouri to the Head of Passes, Louisiana, by means of levees, floodwalls, floodways, reservoirs, banks stabilization and channel improvements in and along the Mississippi River and its tributaries. The mainline levee system, comprised of levees, floodwalls, backwater areas, floodways, and various control structures, is approximately 1,610 miles long. The PDF is a hypothetical flood that was developed to determine the design flood to be used in designing the MR&T levee system in the lower Mississippi River Basin, and is defined as the “greatest flood having a reasonable probability of occurrence” when the operable features of the entire MR&T Project are considered. The PDF upon which the current design for the construction of the mainline levee system and remaining unconstructed levees is based, is the “Refined 1973 MR&T PDF Flowline.” The Mississippi River mainline levees protect the lower Mississippi River Valley against the PDF by confining flow to the leveed channel, except where it enters backwater areas, overflows several levees designed to overtop and fill tributary basins, or is intentionally diverted into four floodway areas. (A figure which depicts the PDF in cubic feet per second for the lower Mississippi River and its tributaries as set forth in SEIS I will be available for review at the Project website.) The MR&T Project functions as a system and provides flood risk reduction across portions of seven states: Illinois, Missouri, Kentucky, Tennessee, Arkansas, Mississippi and Louisiana (a map of the area will be available on the Project website). The MR&T System includes an extensive levee system; floodways to divert excess flows past critical reaches; channel improvement and stabilization features to protect the integrity of flood risk management measures and to ensure proper alignment and depth of the navigation channel; and a system of reservoirs to regulate flows and backwater areas to provide storage during extreme events. The integrity of the levee system is also bolstered by control measures such as landside berms, drainage trenches, drainage blankets, and relief wells, and tributary basin improvements including levees, headwater reservoirs, and pumping stations that expand flood risk management coverage and improve drainage into adjacent areas within the alluvial valley.

Through evaluation of information and data obtained from levee inspections, seepage analyses, research, studies, and engineering assessments, USACE has concluded that certain levee reaches are not at Project design grade due to effects from various changed conditions, including, but not limited to consolidation of levee materials, subsidence, and changes in river conditions and in survey datums over time. Additionally, advances in geotechnical mapping, data collected from recent high water events, and subsequent seepage analyses that have taken place since the finalization of SEIS I, have revealed the need for additional seepage control measures and the construction of other authorized Project features to facilitate structural integrity and stability of the MRL feature of the MR&T Project. As a result, in October of 2017, USACE completed an engineering risk assessment and programmatic review of the MRL based on the 1973 Refined MR&T Flowline Study. The assessment showed that the integrity of the MRL levee system was at risk because numerous levee reaches are not currently constructed to the pass the PDF due to either height or seepage deficiencies. Based on the results, USACE has determined that SEIS II is necessary to formulate alternatives, identify significant resources, assess the direct, indirect, and cumulative impacts to the significant resources, develop mitigation measures, and evaluate and select a recommended plan.

2. Proposed Action. The Proposed Action is the construction of necessary additional authorized MRL Project features (e.g., levee enlargements; stability berms, underseepage controls such as berms, relief wells, cutoffs, riverside blankets and pit fills; and erosion protection such as slope paving), to improve sections of deficient MRL levees in order to provide the required PDF protection. The Proposed Action, and associated evaluations, does not include reformulation of the MRL feature. Measures to manage flood risk reduction along the mainline levee system from Cape Girardeau, Missouri to Head of Passes, Louisiana, include but are not limited to, raising and widening portions of the levee to the authorized design grade and cross-sections, stabilizing floodwalls, and seepage control (e.g. berms, relief wells, and cutoff trenches).

3. Alternatives. SEIS II will evaluate an array of site specific alternatives, including the No-Action alternative, with a focus to avoid and minimize reasonably foreseeable adverse effects from construction of necessary additional authorized MRL Project features. Alternatives will include evaluations of measures, or combination of measures, along with evaluation of locations of borrow areas that avoid and minimize reasonably foreseeable adverse effects. Potential alternatives may include flood risk reduction measures such as raising and widening portions of the levee to the authorized design grade and cross-sections, installing or stabilizing floodwalls, levee setbacks, and various seepage control measures such as, seepage berms, relief wells with the associated drainage and/or pumping plants for water conveyance, and cutoff trenches. Other alternatives will be developed through the scoping period based on public input. Additionally, SEIS II will identify measures to avoid, offset, or minimize impacts to resources where feasible.

4. Scoping. Scoping is the National Environmental Policy Act (NEPA) process utilized for determining the range of alternatives and significant issues to be addressed in SEIS II. USACE invites full public participation to promote open communication on the issues surrounding the Proposed Action. The public will be involved in the scoping and evaluation process through advertisements, notices, and other means. Project information will also be available on the Project website at: http://www.mvk.usace.army.mil/MRLSEIS/. All individuals, organizations, NGOs, affected Indian tribes, and local, state, and Federal agencies that have an interest are urged to participate in the scoping process. The purpose of this Notice is to obtain suggestions and information that may inform the scope of the issues and range of alternatives to be evaluated in SEIS II, as well as to provide notice and request public input on the reasonably foreseeable effects to natural and cultural resources.

This Notice of Intent commences the formal public scoping comment period which shall continue through October 1, 2018. Scoping is the NEPA process utilized for seeking public involvement in determining the range of alternatives and significant issues to be addressed in SEIS II. USACE invites full public participation to promote open communication in the public scoping phase and invites interested parties to identify potential issues, concerns, and reasonable alternatives that should be considered in SEIS II.

In order for public comments to be recorded for inclusion in the Administrative Record and be considered in the SEIS II development process, members of the public, interested persons and entities must submit their comments to USACE by mail, email, or verbally at the Scoping Meeting(s). Written comments submitted for consideration are due no later than October 1, 2018. Written comments may be submitted: (1) To USACE at public scoping meetings; (2) by regular U.S. Mail mailed to: U.S. Army Corps of Engineers, ATTN: CEMVN-PDC-UDC, 167 North Main Street, Room B-202, Memphis, Tennessee 38103-1894; and (3) by email to: MRL-SEIS-2@usace.army.mil. Please include your name and return address on the first page of your written comments.

All personally identifiable information (for example, name, address, etc.) voluntarily submitted by a commenter may be publicly accessible. Do not submit confidential business information or otherwise sensitive or protected information. All timely received comment letters will be accessible on the Project website at http://www.mvk.usace.army.mil/MRLSEIS/.

5. Public Scoping Meetings: Public scoping meeting(s) will be held at various locations within the Project Area during approximately July or August of 2018 to present information to the public and to receive comments from the public. The date(s), time(s), and location(s) of the scoping meeting(s) will be publicly announced in advance by USACE on the Project website at: http://www.mvk.usace.army.mil/MRLSEIS/, and in any other forms deemed appropriate once those dates, times, and locations are determined by USACE. Notices of the public scoping meetings will also be sent by USACE through email distribution lists, posted on the Project website, and mailed to public libraries, government agencies, and interested groups and individuals. Scoping meeting dates and locations will also be advertised in local newspapers. Interested parties unable to attend the scoping meetings can access additional information on SEIS II at: http://www.mvk.usace.army.mil/MRLSEIS/.

6. Potentially Significant Issues. SEIS II will analyze the reasonably foreseeable impacts on the human and natural environment resulting from the Proposed Action. The scoping, public involvement, and interagency coordination processes will help identify and define the range of potential significant issues that will be considered. Important resources and issues evaluated in SEIS II could include, but are not limited to, the direct, indirect, and cumulative effects on aquatic resources; bottomland hardwoods; wetlands; waterfowl; wildlife resources; water quality; cultural resources; geology and soils including agricultural land and prime and unique farmland; hydrology and hydraulics; air quality; threatened and endangered species and their critical habitat; socioeconomics; environmental justice; recreation; and cumulative effects of related projects along the MRL. USACE will also consider issues identified and comments made throughout scoping, public involvement, and interagency coordination. USACE expects to better define the issues of concern and the methods that will be used to evaluate those issues through the scoping process.

7. Availability. The current SEIS II development schedule anticipates the release of the draft of SEIS II by USACE for public review and comment in 2020. After it is published, USACE will hold public comment meetings to present the results of studies and identification of a recommended plan, to receive comments, and to address questions concerning the draft SEIS II.

Dated: June 27, 2018.
Michael C. Derosier,
Colonel, U.S. Army, Commander and District Engineer.

[FR Doc. 2018-14972 Filed 7-12-18; 8:45 am]

BILLING CODE 3720-58-P